DEPARTMENT OF THE INTERIOR

Bureau of Land Management

[LLNVL01000. L51100000.GN0000. LVEMF1601180 241A; NVN-090443 and NVN-082888; 13-08807; MO#4500047785; TAS: 14X5017]

Notice of Availability of the Final Environmental Impact Statement for the Proposed Bald Mountain Mine North and South Operations Area Projects, White Pine County, Nevada

AGENCY: Bureau of Land Management, Department of Interior.

ACTION: Notice of Availability.

SUMMARY: In compliance with the National Environmental Policy Act (NEPA) of 1969, as amended, and the Federal Land Policy and Management Act (FLPMA) of 1976, as amended, the Bureau of Land Management (BLM) Egan Field Office, Ely, Nevada has prepared a Final Environmental Impact Statement (EIS) for the proposed Bald Mountain Mine North and South Operations Area Projects (Project) and by this notice is announcing its availability.

DATES: The BLM will not issue a final decision for a minimum of 30 days after the date that the Environmental Protection Agency publishes its Notice of Availability in the Federal Register.

ADDRESSES: Copies of the Final EIS for the Bald Mountain Mine North and South Operations Area Projects are available for public inspection at the BLM Ely District Office and at http://on.doi.gov/14R9rZ8. Additional information is available at http://on.doi.gov/14vXckC.

FOR FURTHER INFORMATION CONTACT: For further information contact Stephanie Trujillo, BLM Ely District Project Manager, telephone: (775) 289-1831; address: 702 North Industrial Way, Ely, NV 89301; email: strujill@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Barrick Gold U.S. Inc. (Barrick) proposes to expand, construct, and operate an open-pit gold mining operation located in the Bald Mountain Mining District in White Pine County, Nevada, approximately 65 miles northwest of the Town of Ely. The proposed development and expansion would result in the disturbance of approximately 7,097 acres, which would be located primarily on public land managed by the BLM. The life of the mine would extend for 80 years including construction, operation, reclamation, closure, reclamation monitoring, and post-closure monitoring. Barrick completed the sale of the Bald Mountain Mine (BMM) to Kinross Gold Corporation (Kinross) on January 11, 2016 prior to final completion of the EIS process. Kinross has assumed ownership of the Bald Mountain Mine and the proposed expansion of the North and South Operations Area Projects (Project). The Final EIS has retained the name of Barrick in the document, but Kinross is the new operator of the BMM and proponent of the proposed expansion.

The Final EIS describes and analyzes the proposed project site-specific impacts (including cumulative) on all affected resources. The Final EIS describes four alternatives: the Proposed Action, the North and South Operations Area Facilities Reconfiguration Alternative, the North and South Operations Area Western Redbird Modification Alternative, and the No Action Alternative.

The North and South Operations Area Facilities Reconfiguration Alternative was developed to avoid or minimize potential impacts to mule deer migration; Greater Sage-Grouse leks, associated Priority Habitat Management Areas (PHMAs), and General Habitat Management Areas (GHMAs); visual impacts affecting the cultural setting of the Pony Express National Historic Trail, Ruby Valley Pony Express Station, and Fort Ruby National Historic Landmark; and visual impacts affecting visitor aesthetics at the Ruby Lake National Wildlife Refuge. The North and South Operations Area Facilities Reconfiguration Alternative would eliminate 1,429 acres of disturbance from the Proposed Action and an additional 1,934 acres of previously authorized disturbance would not be constructed, representing a 3,352-acre (47 percent) reduction in comparison to the Proposed Action.

The North and South Operations Area Western Redbird Modification (WRM) Alternative was developed to further reduce potential impacts to mule deer migration. The WRM Alternative further reduces impacts to groundwater and key cultural and visual resource settings, and reduces potential impacts to Greater Sage-Grouse. The WRM Alternative would eliminate 1,831 acres of disturbance from the Proposed Action and an additional 2,169 acres of previously authorized disturbance would not be constructed, representing a 3,989-acre (56 percent) reduction in comparison to the Proposed Action. Five other alternatives were considered but eliminated from further analysis. Mitigation measures are considered to minimize environmental impacts and to ensure the Project does not result in unnecessary or undue degradation of public lands.

On April 16, 2012, a Notice of Intent was published in the Federal Register inviting scoping comments on the Proposed Action. A legal notice for scoping was prepared by the BLM and published in the Elko Daily Free Press, Ely Times, Eureka Sentinel, and Reno Gazette-Journal informing the public of the BLM's intention to prepare the Bald Mountain Mine North and South Operations Area Projects EIS. Public scoping meetings were held May 7-10, 2012, in Ely, Eureka, Elko, and Reno, Nevada. A total of 180 individual comments were received. The comments were incorporated in a Scoping Report and were considered in the preparation of the Draft EIS.

Concerns raised during scoping included: potential degradation of surface water or groundwater quality and potential depletion to groundwater from pit lakes and/or water withdrawals for mine operations; potential impacts to mule deer habitat and migration corridors; potential impacts to Greater Sage-Grouse habitat and strutting grounds; potential impacts to Wild Horse Herd Management Areas (HMAs), including herd access to surface water sources; potential air quality impacts from fugitive dust containing mercury, arsenic, or other contaminants; and potential impacts to visual resources including the visual setting of the Pony Express Trail and the Ruby Lake National Wildlife Refuge. The North and South Operations Area Facilities Reconfiguration Alternative and Western Redbird Alternative were developed to help reduce impacts to mule deer, Greater Sage-Grouse, and visual resources. Mitigation measures have also been included to show how impacts on resources could be minimized.

The BLM prepared the Draft EIS in conjunction with its five Cooperating Agencies: Nevada Department of Wildlife, State of Nevada Sagebrush Ecosystem Program, Eureka County, White Pine County, and the U. S. Fish and Wildlife Service Ruby Lake National Wildlife Refuge. A Notice of Availability was published in the Federal Register on August 14, 2015 (80 FR 48913-48914), and the public was invited to provide written comments on the Draft EIS during the 45-day comment period (8/14/2015 to 9/28/2015). The BLM extended the comment period an additional 15 days to 60 days based on several comments received that requested an extension of the comment period on the Draft EIS.

A legal notice was prepared by the BLM and published in the Elko Daily Free Press, Ely Times, Eureka Sentinel, and Reno Gazette-Journal informing the public of the availability of the Bald Mountain Mine North and South Operations Area Projects Draft EIS and upcoming public meetings, which were held in Ely, Eureka, Elko, and Reno (9/15/2015 to 9/18/2015). A total of 35 individual comment submittals containing 451 individual comments were received. Comments on the Draft EIS received from the cooperating agencies, the public, and the internal BLM review were considered and incorporated, as appropriate, into the Final EIS. Concerns included potential impacts (1) to mule deer migration; (2) to Greater Sage-Grouse leks and associated habitats; (3) to springs from groundwater pumping; (4) to Wild Horse Herd Management Areas (HMAs), including herd access to surface water sources; (5) to air quality (specifically from mercury); (6) of climate change on wildlife and other resources; and (7) to visual resources and other indirect impacts to the setting of the Pony Express National Historic Trail, Ruby Valley Pony Express Station, Fort Ruby National Historic Landmark, and Sunshine Locality National Register District and the Ruby Lake National Wildlife Refuge. There were also comments received in general support or opposition to the Project. These public comments resulted in the addition of clarifying text, but did not significantly change the analysis. The selected agency preferred alternative is the Western Redbird Modification Alternative.

On September 21, 2015, during the public comment period for the Draft EIS, the Record of Decision (ROD) and 2015 Nevada and Northeastern California Greater Sage-Grouse Approved Resource Management Plan Amendment was signed. To ensure consistency with the Plan Amendment, the BLM compared the maps and habitat management categories in that document to the initial habitat maps from BLM Instruction Memorandum 2012-044 (December 27, 2011) that were used in the development of the DEIS. The proponent has proposed a robust suite of applicant-committed environmental protection measures into their Proposed Action and all Alternatives, to incorporate Design Features and Management Decisions from the 2015 Nevada and Northeastern California Greater Sage-Grouse Approved Resource Management Plan Amendment. As a result, the analysis and resulting mitigation for Greater Sage-Grouse outlined in Chapter 6 (Mitigation and Monitoring) of this Final EIS are consistent with the Greater Sage-Grouse Plan. This will be achieved by avoiding, minimizing, and compensating for residual impacts by applying beneficial mitigation actions.

Following a 30-day Final EIS availability and review period, a Record of Decision (ROD) will be issued. The decision reached in the ROD is subject to appeal to the Interior Board of Land Appeals. The 30-day appeal period begins with the issuance of the ROD.

Authority: 40 CFR 1506.6 and 40 CFR 1506.10.

Jill A. Moore,
Field Manager, Egan Field Office.

[FR Doc. 2016-15017 Filed 6-23-16; 8:45 am]

BILLING CODE 4310-HC-P